DEPARTMENT OF AGRICULTURE

Rural Business-Cooperative Service

Rural Utilities Service

Inviting Preapplications for Rural Cooperative Development Grants

AGENCY: Rural Business-Cooperative Service, USDA.

ACTION: Notice.

SUMMARY: The Rural Business-Cooperative Service (RBS) announces the availability of approximately $4.5 million in competing Rural Cooperative Development Grant (RCDG) funds for fiscal year (FY) 2001. Of this amount, $1.5 million will be reserved for preapplications which focus on assistance to small, minority producers whose governing board or membership is comprised of at least 75 percent minorities through their cooperative businesses. This action will comply with legislation which authorizes grants for establishing and operating centers for rural cooperative development. The intended effect of this notice is to solicit preapplications for FY 2001 and award grants before September 1, 2001.

DATES: The deadline for receipt of a preapplication is May 24, 2001. Preapplications received after that date will not be considered. Preapplications should be sent to the Rural Development State offices. State offices will forward the preapplications to the National office by June 7, 2001.

ADDRESSES: Entities wishing to apply for assistance should contact their USDA Rural Development State office to receive further information and copies of the preapplication package.

FOR FURTHER INFORMATION CONTACT: James E. Haskell, Assistant Deputy Administrator, Cooperative Services, Rural Business-Cooperative Service, U.S. Department of Agriculture, Stop 3250, Room 4016, South Agriculture Building, 1400 Independence Avenue, SW., Washington, DC 20250-3250. Telephone (202) 720-8460.

SUPPLEMENTARY INFORMATION:

Paperwork Reduction Act

In accordance with the Paperwork Reduction Act of 1995, the information collection requirements continued in this regulation were previously approved by the Office of Management and Budget (OMB) and were assigned OMB control number 0570-0006.

General Information

Rural Cooperative Development Grants (RCDG) are authorized by section 310B(e) of the Consolidated Farm and Rural Development Act (7 U.S.C.1932). Regulations are contained in 7 CFR part 4284, subpart F. The primary objective of the RCDG program is to improve the economic condition of rural areas through cooperative development. The program is administered through USDA Rural Development State offices acting on behalf of RBS.

Grants will be awarded on a competitive basis to nonprofit corporations and institutions of higher education based on specific selection criteria. The priorities described in this paragraph will be used by RBS to rate preapplications. RBS review of preapplications will include the complete preapplication package submitted to the Rural Development State office. Points will be distributed according to ranking compared with other preapplications on hand. Points will be awarded to each factor on a 5, 4, 3, 2, 1 basis depending on the applicant's ranking compared to other applicants. Each factor will receive equal weight. Preference will be given to applications that:

1. Demonstrate a proven track record in administering a nationally coordinated, regionally or Statewide operated project;

2. Demonstrate previous expertise in providing technical assistance to cooperatives in rural areas;

3. Demonstrate the ability to assist in the retention of businesses, facilitate the establishment of cooperatives and new cooperative approaches, and generate employment opportunities that will improve the economic conditions of rural areas;

4. Demonstrate the ability to create horizontal linkages among cooperative businesses within and among various sectors in rural areas of the United States and vertical linkages to domestic and international markets;

5. Commit to providing technical assistance and other services to underserved and economically distressed rural areas of the United States;

6. Commit to providing greater than a 25 percent matching contribution, with private funds and in-kind contributions;

7. Demonstrate transferability or demonstration value to assist rural areas outside of project area; and

8. Demonstrate that any cooperative development activity is consistent with positive environmental stewardship.

Fiscal Year 2001 Preapplication Submission

Preapplications must include a clear statement of the goals and objectives of the project and a plan which describes the proposed project as required by the statute and 7 CFR part 4284, subpart F. Each preapplication received in the Rural Development State office will be reviewed to determine if the preapplication is consistent with the eligible purposes outlined in 7 CFR part 4284, subpart F. Preapplications without supportive data to address selection criteria will not be considered.

Since the cooperative center concept is to provide technical assistance services, including feasibility analysis, preapplications that do not propose development or continuation of the cooperative center concept will not be considered. Also, preapplications that focus on assistance to only one cooperative within the project area will not be considered. To enhance the long-term viability of cooperative development centers, strengthening of technical assistance capacity within new and existing centers is strongly encouraged.

Copies of 7 CFR part 4284, subpart F, will be provided to any interested applicant by making a request to the Rural Development State office or RBS National office.

Preapplications must be completed and submitted to the Rural Development State office as soon as possible, but no later than May 24, 2001. Preapplications received after May 24 will not be considered.

For ease of locating information, each preapplication should contain the following:

1. A detailed Table of Contents containing page numbers for each component of the preapplication.

2. A project summary of 250 words or less on a separate page. This page must include the title of the project and the names of the primary project contacts and the applicant organization, followed by the summary. The summary should be self-contained and describe the overall goals, relevance of the project, and a listing of all organizations involved in the project. The project summary should immediately follow the Table of Contents.

3. A separate one-page information sheet which lists each of the eight evaluation criteria followed by the page numbers of all relevant material and documentation contained in the preapplication which supports that criteria. This page should immediately follow the project summary.

4. An additional requirement for those applicants who have received funding under the Rural Cooperative Development Grant program in fiscal years 1997 through 2000 is a summation, not to exceed three pages, of progress and results for all projects funded fully or partially by the RCDG program in those years. This summary should include the status of cooperative businesses organized and all eligible grant purpose activities listed under 7 CFR, § 4284.515. The summary should immediately follow the page described above in (3) documenting the location of evaluation criteria supporting material.

Preapplications requesting Federal funds in excess of $300,000 will not be considered.

The National office will score preapplications based on the grant selection criteria contained in 7 CFR part 4284, subpart F, and will select awardees subject to the availability of funds and the awardees's satisfactory submission of a formal application and related materials in accordance with subpart F. Entities submitting preapplications that are selected for awards will be invited by the Rural Development State office to submit a formal application prior to September 1. It is anticipated that grant awardees will be selected by September 1, 2001.

In the event that the applicant is awarded a grant that is less than the amount requested, the applicant will be required to modify its application to conform to the reduced amount before execution of the grant agreement. The Agency reserves the right to reduce or de-obligate the award, if acceptable modifications are not submitted by the awardees within 15 working days from the date the application is returned to the applicant. Any modifications must be within the scope of the original application.

All applicants and grants must be in compliance with the requirements of 7 CFR parts 3015 and 3019.

Dated: April 2, 2001.
William F. Hagy, III,
Acting Administrator, Rural Business-Cooperative Service.

BILLING CODE 3410-XY-P

[FR Doc. 01-8768 Filed 4-9-01; 8:45 am]

BILLING CODE 3410-XY-C